DEPARTMENT OF ENERGY

Federal Energy Regulatory Commission

[Docket No. RP03-286-001]

Williston Basin Interstate Pipeline Company; Notice of Tariff Filing

March 12, 2003.

Take notice that on March 6, 2003, Williston Basin Interstate Pipeline Company (Williston Basin), tendered for filing as part of its FERC Gas Tariff, Second Revised Volume No. 1 and Original Volume No. 2, the tariff sheets listed on Appendix A to the filing, to become effective on April 1, 2003.

Williston Basin states that it has come to Williston Basins attention that it had incorrectly presented the electric power reimbursement rates on its tariff sheets in the above referenced filing. Williston Basin requests that it be allowed to substitute the corrected sheets for the corresponding sheets in its February 28, 2003, filing.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 18, 2003.

Magalie R. Salas,
Secretary.

[FR Doc. 03-6536 Filed 3-18-03; 8:45 am]

BILLING CODE 6717-01-P